DEPARTMENT OF COMMERCE

National Oceanic and Atmospheric Administration

RIN: 0648-XC81

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Ad Hoc Review Panel for Red Drum (AHRD).

DATES: The meeting will convene at 1 p.m. on Tuesday, October 9, 2007 and conclude no later than 3:30 p.m. on Wednesday, October 10, 2007.

ADDRESSES: The meeting will be held at the Hilton New Orleans Airport, 901 Airline Drive, Kenner, LA 70062; telephone: (504) 469-5000.

Council address: Gulf of Mexico Fishery Management Council, 2203 North Lois Avenue, Suite 1100, Tampa, FL 33607.

FOR FURTHER INFORMATION CONTACT: Wayne Swingle, Executive Director, telephone: (813) 348-1630.

SUPPLEMENTARY INFORMATION: The Gulf of Mexico Fishery Management Council (Council) has scheduled a meeting of the Ad Hoc Review Panel for Red Drum. The AHRD is charged with developing a long-term research program to collect age structure information on Red Drum. Such programs will set-aside part of TAC for research to compensate harvesters for collecting that information. The AHRD will hear reports on structure of TAC set-aside programs for two council areas and a similar gulf program for goliath grouper. Existing NMFS, MARFIN and Cooperative Research Program (CRP) will be reviewed. The AHRP is charged with determining which data sets should be collected by each program and the frequency of such collection.

Although other non-emergency issues not on the agenda may come before the Ad Hoc Review Panel for Red Drum for discussion, in accordance with the Magnuson-Stevens Fishery Conservation and Management Act (Magnuson-Stevens Act), those issues may not be the subject of formal action during these meetings. Actions of the Ad Hoc Review Panel for Red Drum will be restricted to those issues specifically identified in the agenda and any issues arising after publication of this notice that require emergency action under Section 305(c) of the Magnsuon-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: September 18, 2007.
Tracey L. Thompson,
Acting Director, Office of Sustainable Fisheries, National Marine Fisheries Service.

[FR Doc. E7-18680 Filed 9-20-07; 8:45 am]

BILLING CODE 3510-22-S